DEPARTMENT OF TRANSPORTATION

Federal Aviation Administration

Ninety-Fifth Meeting: RTCA Special Committee (159) Global Positioning System (GPS)

AGENCY: Federal Aviation Administration (FAA), U.S. Department of Transportation (DOT).

ACTION: Notice of Ninety-Fifth RTCA Special Committee 159 meeting.

SUMMARY: The FAA is issuing this notice to advise the public of the Ninety-Fifth RTCA Special Committee 159 meeting.

DATES: The meeting will be held March 7-11, 2016 from 9:00 a.m.-5:00 p.m.

ADDRESSES: The meeting will be held at RTCA Inc. Conference Room, 1150 18th NW., Suite 910, Washington, DC Tel: (202) 330-0680.

FOR FURTHER INFORMATION CONTACT: The RTCA Secretariat, 1150 18th Street NW., Suite 910, Washington, DC, 20036, or by telephone at (202) 833-9339, fax at (202) 833-9434, or Web site at http://www.rtca.org or Jennifer Iversen, Program Director, RTCA, Inc., jiversen@rtca.org, (202) 330-0662.

SUPPLEMENTARY INFORMATION: Pursuant to section 10(a)(2) of the Federal Advisory Committee Act (Pub. L. 92-463, 5 U.S.C., App.), notice is hereby given for a meeting of RTCA Special Committee 159. The agenda will include the following:

Monday, March 7, 2016

1. Working Group 2, GPS/WAAS, 4th Floor Large Board Room Opening remarks: DFO, RTCA, Chairman, and Hosts (9:00 a.m.-5:00 p.m.)

Tuesday, March 8, 2016

1. Noon p.m., Working Group 2, GPS/WAAS, 4th Floor Large Board Room (9:00 a.m.-12:00 p.m.)

2. Working Group 2A, GPS/GLONASS, Garmin Board Room (1:00 a.m.-5:00 p.m.)

3. Working Group 4, GPS/Precision Landing, 4th Floor Large Board Room (1:00 p.m.-5:00 p.m.)

4. Working Group 2C, GPS/Inertial, 4th Floor Small Board Room (9:00 a.m.-5:00 p.m.)

Wednesday, March 9, 2016

1. Working Group 2A, GPS/GLONASS, Garmin Board Room (9:00 a.m.-12:00 p.m.)

2. Working Group 2C, GPS/Inertial, 4th Floor Small Board Room (9:00 a.m.-5:00 p.m.)

3. Working Group 4, GPS/Precision Landing, 4th Floor Large Board Room (9:00 a.m.-5:00 p.m.)

Thursday, March 10, 2016

1. Working Group 7, GPS/Antennas, Garmin Board Room (9:00 a.m.-12:00 p.m.)

2. Working Group 2C, GPS/Inertial, 4th Floor Small Board Room (9:00 a.m.-12:00 p.m.)

3. Working Group 6, GPS/Interference, Garmin Board Room (1:00 p.m.-5:00 p.m.)

4. Working Group 4, GPS/Precision Landing, 4th Floor Large Board Room (9:00 a.m.-5:00 p.m.)

Friday, March 11, 2016

1. Plenary Session (9:00 a.m.)

a. Chairman's Introductory Remarks

b. Approval of Summary of the Ninety-Fourth Meeting held October 23, 2015, RTCA Paper No. 041-16/SC159-1047

c. Review Working Group (WG) Progress and Identify Issues for Resolution

i. GPS/WAAS (WG-2)

ii. GPS/GLONASS (WG-2A)

iii. GPS/Inertial (WG-2C)

iv. GPS/Precision Landing Guidance (WG-4)

v. GPS/Interference (WG-6)

vi. GPS/Antennas (WG-7)

d. Review of EUROCAE Activities

e. Action Item Review

i. Coordination of SC-159 TOR dates and DFMC MOPS efforts with other standards bodies

ii. DME Interference to GNSS signals in the future

iii. Updating SC-159 Document Schedules in the SC-159 TOR

f. Assignment/Review of Future Work

g. Other Business

h. Date and Place of Next Meeting

i. Adjourn

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on February 22, 2016.
Latasha Robinson,
Management & Program Analyst, NextGen, Enterprise Support Services Division, Federal Aviation Administration.

[FR Doc. 2016-04199 Filed 2-23-16; 4:15 pm]

BILLING CODE 4910-13-P